DEPARTMENT OF TRANSPORTATION

Federal Aviation Administration

Notice of Intent To Rule on Application 03-10-C-00-BNA To Impose and Use the Revenue From a Passenger Facility Charge (PFC) at Nashville International Airport, Nashville, TN

AGENCY: Federal Aviation Administration (FAA), DOT.

ACTION: Notice of intent to rule on application.

SUMMARY: The FAA proposes to rule and invites public comment on the application to impose and use the revenue from a PFC at Nashville International Airport under the provisions of the 49 U.S.C. 40117 and part 158 of the Federal Aviation Regulations (14 CFR part 158).

DATES: Comments must be received on or before December 9, 2002.

ADDRESSES: Comments on this application may be mailed or delivered in triplicate to the FAA at the following address: Memphis Airports District Office, 3385 Airways Boulevard, Suite 302, Memphis, Tennessee 38116-3841.

In addition, one copy of any comments submitted to the FAA must be mailed or delivered to Mr. Raul Regalado, President of the Metropolitan Nashville Airport Authority at the following address ONe Terminal Drive, Suite 501, Nashville, Tennessee, 37214. Air carriers and foreign air carriers may submit copies of written comments previously provided to the Metropolitan Nashville Airport Authority under section 158.23 of part 158.

FOR FURTHER INFORMATION CONTACT: Cynthia K. Wills, Program Manager, Memphis Airports District Office, 3385 Airways Boulevard, Suite 302, Memphis, Tennessee 38116-3841, (901) 544-3495. The application may be reviewed in person at this same location.

SUPPLEMENTARY INFORMATION: The FAA proposes to rule and invites public comment on the application to impose and use the revenue from a PFC at Nashville International Airport under the provisions of the 49 U.S.C. 40117 and part 158 of the Federal Aviation Regulations (14 CFR part 158).

On October 29, 2002, the FAA determined that the application to impose and use the revenue from a PFC submitted by Metropolitan Nashville Airport Authority was substantially complete within the requirements of § 158.25 of part 158. The FAA will approve or disapprove the application, in whole or in part, no later than February 11, 2003.

The following is a brief overview of the application.

Proposed charge effective date: October 1, 2004.

Proposed charge expiration date: March 31, 2007.

Level of the proposed PFC: $3.00.

Total estimated PFC revenue: $8,883,800.

Brief description of proposed project(s): Land Acquisition (East Side); Land Acquisition (Extended Runway Approach Areas), Public Address System, Security Enhancements, Airfield Pavement Rehabilitation, Widen Three (3) Taxiway Fillets, Airport Vehicle Driving Simulator.

Class or classes of air carriers which the public agency has requested not be required to collect PFCs: Part 135, Air Taxi.

Any person may inspect the application in person at the FAA office listed above under FOR FURTHER INFORMATION CONTACT and at the FAA Regional Airports office located at: Southern Region Headquarters, 1701 Columbia Avenue, College Park, Georgia, 30337

In addition, any person may, upon request, inspect the application, notice and other documents germane to the application in person at the Metropolitan Nashville Airport Authority.

Dated: Issued in Memphis, Tennessee on October 29, 2002.
LaVerne F. Reid,
Manager, Memphis Airports District Office, Southern Region.

[FR Doc. 02-28378 Filed 11-6-02; 8:45 am]

BILLING CODE 4910-13-M